DEPARTMENT OF HEALTH AND HUMAN SERVICES

Centers for Disease Control and Prevention

[60Day-24-0900; Docket No. CDC-2024-0045]

Proposed Data Collection Submitted for Public Comment and Recommendations

AGENCY: Centers for Disease Control and Prevention (CDC), Department of Health and Human Services (HHS).

ACTION: Notice with comment period.

SUMMARY: The Centers for Disease Control and Prevention (CDC), as part of its continuing effort to reduce public burden and maximize the utility of government information, invites the general public and other Federal agencies the opportunity to comment on a proposed and/or continuing information collection, as required by the Paperwork Reduction Act of 1995. This notice invites comment on a proposed information collection project titled Contact Investigation Outcome Reporting Forms. The project includes the contact investigation outcome reporting forms used to obtain data from State, local, and territorial public health professionals or conveyance operators and medical professionals on their contact tracing efforts to better assess the risk to individuals who may have been exposed to a confirmed case of a communicable disease of public health concern while traveling to or within the United States.

DATES: CDC must receive written comments on or before August 5, 2024.

ADDRESSES: You may submit comments, identified by Docket No. CDC-2024-0045 by either of the following methods:

• Federal eRulemaking Portal: www.regulations.gov. Follow the instructions for submitting comments.

• Mail: Jeffrey M. Zirger, Information Collection Review Office, Centers for Disease Control and Prevention, 1600 Clifton Road NE, MS H21-8, Atlanta, Georgia 30329.

Instructions: All submissions received must include the agency name and Docket Number. CDC will post, without change, all relevant comments to www.regulations.gov.

Please note: Submit all comments through the Federal eRulemaking portal (www.regulations.gov) or by U.S. mail to the address listed above.

FOR FURTHER INFORMATION CONTACT: To request more information on the proposed project or to obtain a copy of the information collection plan and instruments, contact Jeffrey M. Zirger, Information Collection Review Office, Centers for Disease Control and Prevention, 1600 Clifton Road NE, MS H21-8, Atlanta, Georgia 30329; Telephone: 404-639-7570; Email: omb@cdc.gov.

SUPPLEMENTARY INFORMATION: Under the Paperwork Reduction Act of 1995 (PRA) (44 U.S.C. 3501-3520), Federal agencies must obtain approval from the Office of Management and Budget (OMB) for each collection of information they conduct or sponsor. In addition, the PRA also requires Federal agencies to provide a 60-day notice in the Federal Register concerning each proposed collection of information, including each new proposed collection, each proposed extension of existing collection of information, and each reinstatement of previously approved information collection before submitting the collection to the OMB for approval. To comply with this requirement, we are publishing this notice of a proposed data collection as described below.

The OMB is particularly interested in comments that will help:

1. Evaluate whether the proposed collection of information is necessary for the proper performance of the functions of the agency, including whether the information will have practical utility;

2. Evaluate the accuracy of the agency's estimate of the burden of the proposed collection of information, including the validity of the methodology and assumptions used;

3. Enhance the quality, utility, and clarity of the information to be collected;

4. Minimize the burden of the collection of information on those who are to respond, including through the use of appropriate automated, electronic, mechanical, or other technological collection techniques or other forms of information technology, e.g., permitting electronic submissions of responses; and

5. Assess information collection costs.

Proposed Project

Contact Investigation Outcome Reporting Forms (OMB Control No. 0920-0900, Exp. 8/31/2024)—Revision—National Center for Emerging and Zoonotic Infectious Diseases (NCEZID), Centers for Disease Control and Prevention (CDC).

Background and Brief Description

This proposed information collection project includes the contact investigation outcome reporting information collection tools used by CDC to better assess the risk to interstate and arriving international travelers who may have been exposed to a confirmed case of a communicable disease of public health concern while traveling. Different forms are tailored for different diseases of public health concern that are tracked by the Division of Global Migration Health (DGMH/CDC). The information will be used to assist and collaborate with State, local, and territorial health departments, conveyance operators, air, maritime, and land port of entry partners, and international public health authorities to identify potential exposures and to determine the risk of infection, and whether future public health interventions are needed.

Methods used to collect the information are basic surveys of respondents that record information about the exposed traveler's location and activities on air or maritime conveyances or land border crossing, other potential exposures, signs/symptoms that may have occurred after their potential exposure, prior history of vaccination or disease, and other medical conditions that could influence the risk of infection or severity of illness.

Due to the COVID-19 pandemic, CDC modified how cruise ships report information on cases of influenza-like-illness. Since December 2023, CDC has been using a new surveillance system for cumulative acute respiratory illness (ARI) reporting (under OMB Control Number 0920-1335), which includes cases of influenza, COVID-19, and respiratory syncytial virus. One form (the Influenza Outbreak Enhanced Data Collection Form) is not used routinely now; however, this form may be used in limited circumstances in the future. The burden of outcome reporting forms has been adjusted based on more recent numbers, which notably excludes COVID-19 numbers because we are no longer requiring contact investigations for COVID-19 and thus these are lower than past estimates. This applies primarily to the General Contact Investigation Outcome Reporting Form. Other burden estimates have been adjusted to reflect current estimates reflecting 2021-2023 numbers.

CDC requests OMB approval for an estimated 50 annual burden hours. There is no cost to respondents other than their time.

Estimated Annualized Burden Hours
Type of respondent | Form name | Number of respondents | Number of responses per response | Average burden per response | Total burden hours
Cruise Ship Physicians/Cargo Ship Managers | Clinically Active TB Contact Investigation Outcome Reporting Form—Maritime | 17 | 1 | 20/60 | 6
Cruise Ship Physicians/Cargo Ship Managers | Varicella Investigation Outcome Reporting Form | 74 | 1 | 20/60 | 25
Cruise Ship Physicians | Influenza Outbreak Enhanced Data Collection Form—Maritime | 20 | 1 | 20/60 | 7
State/Local/Territorial public health staff | General Contact Investigation Outcome Reporting Form—Air | 8 | 1 | 5/60 | 1
State/Local/Territorial public health staff | TB Contact Investigation Outcome Reporting Form—Air | 51 | 1 | 5/60 | 4
State/Local/Territorial public health staff | Measles Contact Investigation Outcome Reporting Form—Air | 72 | 1 | 5/60 | 6
State/Local/Territorial public health staff | Rubella Contact Investigation Outcome Reporting Form—Air | 5 | 1 | 5/60 | 1
State/Local/Territorial public health staff | General Contact Investigation Outcome Reporting Form—Land | 2 | 1 | 5/60 | 0
Total |  |  |  |  | 50

Jeffrey M. Zirger,
Lead, Information Collection Review Office, Office of Public Health Ethics and Regulations, Office of Science, Centers for Disease Control and Prevention.

[FR Doc. 2024-12235 Filed 6-3-24; 8:45 am]

BILLING CODE 4163-18-P